SECURITIES AND EXCHANGE COMMISSION

Proposed Collection; Comment Request

Upon Written Request, Copies Available From: Securities and Exchange Commission, Office of Filings and Information Services, Washington, DC 20549.

Extension: Industry Guides, SEC File No. 270-69, OMB Control No. 3235-0069; Notice of Exempt Roll-Up Preliminary Communication, SEC File No. 270-396, OMB Control No. 3235-0452.

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Industry Guides are used by registrants in certain specified industries as disclosure guidelines in preparing Securities Act of 1933 (“Securities Act”) and Securities Exchange Act of 1934 (“Exchange Act”) registration statements as well as other Exchange Act filings. The Commission estimates for administrative purposes only, that the total annual burden with respect to the Industry Guides is one hour. The Industry Guides do not directly impose any disclosure burden.

A Notice of Exempt Preliminary Roll-Up Communication (“Notice”) is required to be filed by a person making such a communication by Exchange Act Rules 14a-2(b)(4) and 14a-6(a). The Notice provides public information regarding the person's ownership interest and any potential conflicts of interest. The Notice takes approximately .25 hours per response and is filed by 4 respondents for a total of 1 annual burden hour.

Written comments are invited on: (a) whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW., Washington, DC 20549.

Dated: December 13, 2000.
Margaret H. McFarland,
Deputy Secretary.

[FR Doc. 00-32943 Filed 12-26-00; 8:45 am]

BILLING CODE 8010-01-M